DEPARTMENT OF ENERGY

Federal Energy Regulatory Commission

[Project No. 13457-000; Project No. 13458-000]

Three Rivers Park District; BOSTI Hydroelectric LLC; Notice of Competing Preliminary Permit Applications Accepted for Filing and Soliciting Comments, and Motions To Intervene

September 10, 2009.

Three Rivers Park District and the BOSTI Hydroelectric LLC filed applications, pursuant to section 4(f) of the Federal Power Act, proposing to study the feasibility of the Coon Rapids Dam Project, to be located at the existing Coon Rapids Dam owned by the Three Rivers Park District located on the Mississippi River in Hennepin and Anoka Counties, Minnesota.

Descriptions of the proposed Coon Rapids Dam Projects:

Three Rivers Park District's Project No. 13457-000 application was filed on May 1, 2009. The project would consist of: (1) The existing 1,455-foot-long, 30.8 foot-high Coon Rapids Dam; (2) a proposed powerhouse containing two generating units having a total installed capacity of 7.2 MW; and (3) a proposed 600-foot-long, 4.16 kilovolt (kV) transmission line. The proposed project would have an average annual generation of 44.26 gigawatt-hours, which would be sold to Xcel Energy.

BOSTI Hydroelectric LLC's Project No. 13458-000 application was filed on May 1, 2009. The project would consist of: (1) The existing 1,455-foot-long, 30.8 foot-high Coon Rapids Dam; (2) a proposed powerhouse containing two generating units having a total installed capacity of 8.0 MW; and (3) a proposed 200-foot-long, 4.16 kV transmission line. The proposed project would have an average annual generation of 45.0 gigawatt-hours, which would be sold to Xcel Energy.

Applicants Contact: For Three Rivers Park District: Ms. Margaret Walz, Associate Superintendent, Three Rivers Park District, 3000 Xenium Lane N, Plymouth, MN 55441; phone (763) 559-9000. For the BOSTI Hydroelectric LLC: Mr. Douglas A. Spaulding, BOSTI Hydroelectric LLC, C/O Nelson Energy, 8441 Wayzata Blvd., Suite 101, Golden Valley, MN 55426; phone (952) 544-8133.

FERC Contact: Michael Spencer, (202) 502-6093.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's website under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13457-000, or 13458-000) in the docket number field to access the document. For assistance, call toll-free 1-866-208-3372.

Kimberly D. Bose,
Secretary.

[FR Doc. E9-22469 Filed 9-17-09; 8:45 am]

BILLING CODE 6717-01-P